DEPARTMENT OF THE INTERIOR

Fish and Wildlife Service

[Docket No. FWS-HQ-IA-2014-0018; 96300-1671-0000-R4]

Conference of the Parties to the Convention on International Trade in Endangered Species of Wild Fauna and Flora (CITES); Seventeenth Regular Meeting; Tentative U.S. Negotiating Positions for Agenda Items and Species Proposals Submitted by Foreign Governments and the CITES Secretariat

AGENCY: Fish and Wildlife Service, Interior.

ACTION: Notice.

SUMMARY: The United States, as a Party to the Convention on International Trade in Endangered Species of Wild Fauna and Flora (CITES), will attend the seventeenth regular meeting of the Conference of the Parties to CITES (CoP17) in Johannesburg, South Africa, September 24 to October 5, 2016. This notice announces the availability of tentative U.S. negotiating positions on amendments to the CITES Appendices (species proposals), draft resolutions and decisions, and agenda items submitted by other countries and the CITES Secretariat for consideration at CoP17.

ADDRESSES: Copies of tentative U.S. negotiating positions on amendments to the CITES Appendices (species proposals), draft resolutions and decisions, and agenda items submitted by other countries and the CITES Secretariat for consideration at CoP17 are available:

• Electronically at: http://www.regulations.gov in Docket No. FWS-HQ-IA-2014-0018, or on our Web site at http://www.fws.gov/international/cites/cop17;

• By email request to: managementauthority@fws.gov; or

• By postal mail or in person, by appointment, between 8 a.m. and 4 p.m., Monday through Friday, except Federal holidays, at: U.S. Fish and Wildlife Service Headquarters, Division of Management Authority, 5275 Leesburg Pike, Falls Church, VA 22041-3803; telephone 703-358-2095.

FOR FURTHER INFORMATION CONTACT: For information pertaining to resolutions, decisions, and other agenda items, contact Craig Hoover, Chief, Division of Management Authority; telephone: 703-358-2095; email: managementauthority@fws.gov; facsimile: 703-358-2298. For information pertaining to species proposals, contact Rosemarie Gnam, Chief, Division of Scientific Authority; telephone: 703-358-1708; email: scientificauthority@fws.gov; facsimile: 703-358-2276.

SUPPLEMENTARY INFORMATION:

Background

The Convention on International Trade in Endangered Species of Wild Fauna and Flora, hereinafter referred to as CITES or the Convention, is an international treaty designed to control and regulate international trade in certain animal and plant species that are now or potentially may become threatened with extinction. These species are listed in Appendices to CITES, which are available on the CITES Secretariat's Web site at http://www.cites.org/eng/app/index.php.

Currently 182 countries and the European Union have ratified, accepted, approved, or acceded to CITES; these 183 entities are known as Parties. The Convention calls for regular biennial meetings of the Conference of the Parties, unless the Conference of the Parties decides otherwise. At these meetings, the Parties review the implementation of CITES, make provisions enabling the CITES Secretariat in Switzerland to carry out its functions, consider amendments to the lists of species in Appendices I and II, consider reports presented by the Secretariat and the permanent CITES committees (Standing, Animals, and Plants Committees), and make recommendations for the improved effectiveness of CITES. Any country that is a Party to CITES may propose amendments to Appendices I and II, resolutions, decisions, and other agenda items for consideration by all of the Parties at the meetings. Accredited nongovernmental organizations (NGOs) may participate in the meeting as approved observers and may speak during sessions when recognized by the meeting Chairman, but they may not vote or submit proposals.

This is our sixth in a series of Federal Register notices on the development of U.S. submissions and tentative negotiating positions for CoP17. In this notice, we announce the availability of tentative U.S. negotiating positions on species proposals, draft resolutions and decisions, and agenda items submitted by other Parties and the Secretariat for consideration at CoP17. The ADDRESSES section, above, explains how to obtain a copy of all of this information.

We published our first CoP17-related Federal Register notice on June 27, 2014 (79 FR 36550), in which we requested information and recommendations on species proposals for the United States to consider submitting for consideration at CoP17. In that notice, we also described the U.S. approach to preparations for CoP17. We published our second such Federal Register notice on May 11, 2015 (80 FR 26948), in which we requested information and recommendations on proposed resolutions, decisions, and other agenda items for the United States to consider submitting for consideration at CoP17, and provided preliminary information on how to request approved observer status for nongovernmental organizations that wish to attend the meeting. In our third CoP17-related Federal Register notice, published on August 26, 2015 (80 FR 51830), we requested public comments and information on species proposals that the United States is considering submitting for consideration at CoP17, and in our fourth such notice, published on December 4, 2015 (80 FR 75873), we requested public comments and information on proposed resolutions, decisions, and other agenda items that the United States was considering submitting for consideration at CoP17, and provided more information on how to request approved observer status for nongovernmental organizations that wish to attend the meeting. In our fifth Federal Register notice, published on June 23, 2016 (81 FR 40900), we announced the provisional agenda for CoP17, solicited comments on the items on the provisional agenda, and announced a public meeting for July 19, 2016.

A link to the complete list of those Federal Register notices, along with information on U.S. preparations for CoP17, can be found at http://www.fws.gov/international/cites/cop17. The notices and public comments received can be viewed at http://www.regulations.gov in Docket No. FWS-HQ-IA-2014-0018. You may obtain additional information on those Federal Register notices from the following sources: For information on proposed resolutions, decisions, and other agenda items, contact the U.S. Fish and Wildlife Service, Division of Management Authority, 5275 Leesburg Pike, MS-IA, Falls Church, VA 22041; and for information on species proposals, contact the Division of Scientific Authority, 5275 Leesburg Pike, MS-IA, Falls Church, VA 22041. Our regulations governing this public process are found in the Code of Federal Regulations (CFR) at 50 CFR 23.87. Pursuant to 50 CFR 23.87(a)(3)(iii), with this notice we are posting on http://www.regulations.gov (see Docket No. FWS-HQ-IA-2014-0018) and on our Web site (http://www.fws.gov/international/publications-and-media/federal-register-notices.html) a summary of our proposed negotiating positions on the items included in the CoP17 agenda and proposed amendments to the Appendices, and the reasons for our proposed positions.

Announcement of Provisional Agenda for CoP17

The provisional agenda for CoP17 is currently available on the CITES Secretariat's Web site at http://www.cites.org/eng/cop/17/doc/index.php. The working documents associated with the items on the provisional agenda, including proposed resolutions, proposed decisions, and discussion documents, are also available on the Secretariat's Web site. To view the working document associated with a particular agenda item, access the provisional agenda at the above Web site, locate the particular agenda item, and click on the document link for that agenda item in the column entitled “Document.” Finally, the species proposals that will be considered at CoP17 are also available on the Secretariat's Web site. Proposals for amendment of Appendices I and II can be accessed at the web address given above.

Tentative Negotiating Positions

On http://www.regulations.gov (see Docket No. FWS-R9-IA-2014-0018) and on our Web site (http://www.fws.gov/international/publications-and-media/federal-register-notices.html), we summarize the tentative U.S. negotiating positions on proposals to amend the Appendices (species proposals), draft resolutions and decisions, and agenda items that have been submitted by other countries and the CITES Secretariat. Documents submitted by the United States either alone or as a co-proponent for consideration by the Parties at CoP17 can be found on the Secretariat's Web site at: http://www.cites.org/eng/cop/17/doc/index.php. Those documents are: CoP17 Docs. 18.1, 27, 40, and 52, and (co-sponsored with South Africa) Doc. 20. The United States, either alone or as a co-proponent, submitted the following proposals to amend Appendices I and II: CoP17 Props. 9-12, 19, 27, 36, 44, 48, 52, 60, and 62. We will not provide any additional explanation of the U.S. negotiating positions for documents and proposals that the United States submitted. The introduction in the text of each of the documents the United States submitted contains a discussion of the background of the issue and the rationale for submitting the document.

Available Information on CoP17

Information concerning the results of CoP17 will be available after the close of the meeting on the Secretariat's Web site at http://www.cites.org, or upon request from the Division of Management Authority (see FOR FURTHER INFORMATION CONTACT, above), or on our Web site (http://www.fws.gov/international/cites/cop17).

Author

The primary author of this notice is Clifton A. Horton, Division of Management Authority.

Authority

This notice is issued under the authority of the U.S. Endangered Species Act of 1973, as amended (16 U.S.C. 1531 et seq.).

Dated: September 15, 2016.
Stephen Guertin,
Acting Director, Fish and Wildlife Service.

[FR Doc. 2016-23008 Filed 9-22-16; 8:45 am]

BILLING CODE 4333-15-P